DEPARTMENT OF HEALTH AND HUMAN SERVICES

Administration for Children and Families

Proposed Information Collection Activity; Comment Request

Proposed Projects:

Title: Child Care and Development Fund Quality Progress Report

OMB No.: New.

Description: Lead Agencies are required to spend a certain percent of their Child Care and Development Fund (CCDF) awards on activities to improve the quality of child care. Lead Agencies are also required to invest in at least one of 10 allowable quality activities included in the Child Care and Development Block Grant (CCDBG) Act of 2014. In order to ensure that States and Territories are meeting these requirements, the CCDBG Act and the CCDF final rule require Lead Agencies to submit an annual report that describes how quality funds were expended. The CCDF final rule named this the Quality Progress Report (QPR). The report must describe how quality funds were expended, including what types of activities were funded and measures used to evaluate progress in improving the quality of child care programs and services. The QPR replaces the Quality Performance Report that was previously an appendix to the CCDF State Plan. The QPR increased transparency on quality spending and will continue to gather detailed information on how States and Territories are spending their quality funds, as well as more specific data points to reflect the requirements in the CCDBG Act and the CCDF final rule.

In the QPR, Lead Agencies are asked about the State's or Territory's progress in meeting its goals as reported in the FY 2016-2018 CCDF Plan, and provide available data on the results of those activities. Specifically, this report will: (1) Ensure accountability for the use of CCDF quality funds, including a set-aside for quality infant and toddler care that begins in FY 2017; (2) track progress toward meeting State- and Territory—set indicators and benchmarks for improvement of child care quality per what they described in their CCDF Plans; (3) summarize how the Lead Agency is building a progression of professional development for child care providers as envisioned in the CCDBG Act of 2014 and CCDF final rule; and (4) inform federal technical assistance efforts and decisions regarding strategic use of quality funds.

Respondents: State and Territory CCDF Lead Agencies (56).

Annual Burden Estimates
Instrument | Number of respondents | Number of responses per respondent | Average burden hours per response | Total burden hours
QPR | 56 | 1 | 6.0 | 3360

Estimated Total Annual Burden Hours:

In compliance with the requirements of the Paperwork Reduction Act of 1995 (Pub. L. 104-13, 44 U.S.C. Chap 35), the Administration for Children and Families is soliciting public comment on the specific aspects of the information collection described above. Copies of the proposed collection of information can be obtained and comments may be forwarded by writing to the Administration for Children and Families, Office of Planning, Research and Evaluation, 330 C Street SW., Washington, DC 20201. Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2017-07217 Filed 4-11-17; 8:45 am]

BILLING CODE 4184-43-P